DEPARTMENT OF COMMERCE

Bureau of Industry and Security

[Docket No. 250422-0070]

XRIN 0694-XC124

Notice of Request for Public Comments on Section 232 National Security Investigation of Imports of Processed Critical Minerals and Derivative Products

AGENCY: Bureau of Industry and Security, Office of Strategic Industries and Economic Security, U.S. Department of Commerce.

ACTION: Notice of request for public comments.

SUMMARY: On April 22, 2025, the Secretary of Commerce initiated an investigation to determine the effects on the national security of imports of processed critical minerals as well as their derivative products. This investigation has been initiated under section 232 of the Trade Expansion Act of 1962, as amended (Section 232). Interested parties are invited to submit written comments, data, analyses, or other information pertinent to the investigation to the Department of Commerce's (Department) Bureau of Industry and Security (BIS), Office of Strategic Industries and Economic Security. This notice identifies issues on which the Department is especially interested in obtaining the public's views.

DATES: Comments may be submitted at any time but must be received by May 16, 2025.

ADDRESSES: Comments on this notice may be submitted to the Federal rulemaking portal at: www.regulations.gov. The regulations.gov ID for this notice is BIS-2025-0025. Please refer to XRIN 0694-XC124 in all comments.

All filers using the portal should use the name of the person or entity submitting the comments as the name of their files, in accordance with the instructions below. Anyone submitting business confidential information should clearly identify the business confidential portion at the time of submission, file a statement justifying nondisclosure and referring to the specific legal authority claimed, and provide a non-confidential version of the submission. For comments submitted electronically containing business confidential information, the file name of the business confidential version should begin with the characters “BC.” Any page containing business confidential information must be clearly marked “BUSINESS CONFIDENTIAL” on the top of that page. The corresponding non-confidential version of those comments must be clearly marked “PUBLIC.” The file name of the non-confidential version should begin with the character “P.” Any submissions with file names that do not begin with either a “BC” or a “P” will be assumed to be public and will be made publicly available at: https://www.regulations.gov. Commenters submitting business confidential information are encouraged to scan a hard copy of the non-confidential version to create an image of the file, rather than submitting a digital copy with redactions applied, to avoid inadvertent redaction errors which could enable the public to read business confidential information.

FOR FURTHER INFORMATION CONTACT: Stephen Astle, Director, Defense Industrial Base Division, Office of Strategic Industries and Economic Security, Bureau of Industry and Security, U.S. Department of Commerce (202) 482-2533, minerals232@bis.doc.gov. For more information about the Section 232 program, including the regulations and the text of previous investigations, see www.bis.doc.gov/232.

SUPPLEMENTARY INFORMATION:

Background

On April 15, 2025, the President issued Executive Order 14272, Ensuring National Security and Economic Resilience through Section 232 Actions on Processed Critical Minerals and Derivative Products (90 FR 16437), instructing the Secretary of Commerce (“Secretary”) to initiate an investigation under Section 232 (19 U.S.C. 1862) to determine the effects on national security of imports of processed critical minerals and derivative products. On April 22, 2025, the Secretary of Commerce initiated the Section 232 investigation.

Executive Order 14272 defines the following terms as used in this notice. The term “critical minerals” means those minerals included in the “Critical Minerals List” published by the United States Geological Survey (USGS) pursuant to section 7002(c) of the Energy Act of 2020 (30 U.S.C. 1606) at 87 FR 10381, or any subsequent such list. The term “critical minerals” also includes uranium. The term “rare earth elements” means the 17 elements identified as rare earth elements by the Department of Energy (DOE) in the April 2020 publication, “Critical Materials Rare Earths Supply Chain.” Generally, rare earth elements are considered a subset of critical minerals. The term also includes any additional elements that either the USGS or DOE determines in any subsequent official report or publication should be considered rare earth elements. The term “processed critical minerals” refers to critical minerals that have undergone the activities that occur after critical mineral ore is extracted from a mine up through its conversion into a metal, metal powder, or a master alloy. These activities specifically occur beginning from the point at which ores are converted into oxide concentrates; separated into oxides; and converted into metals, metal powders, and master alloys. The term “derivative products” includes all goods that incorporate processed critical minerals as inputs. These goods include semi-finished goods (e.g., anodes and cathodes) as well as final products (e.g., motors, batteries, radar systems, wind turbines and their components, and advanced optical devices).

Request for Public Comments

This investigation is being undertaken in accordance with part 705 of the National Security Industrial Base Regulations (15 CFR parts 700 to 709) (NSIBR). Interested parties are invited to submit written comments, data, analyses, or information pertinent to this investigation to BIS's Office of Strategic Industries and Economic Security no later than May 16, 2025. The Department is particularly interested in comments and information directed at the criteria listed in § 705.4 of the regulations as they affect national security, including the following:

(i) Identification of United States imports of all processed critical minerals and derivative products;

(ii) The foreign sources by percentage and volume of all processed critical mineral imports and derivative product imports, the specific types of risks that may be associated with each source by country, and those source countries deemed to be of significant risk;

(iii) An analysis of the distortive effects of the predatory economic, pricing, and market manipulation strategies and practices used by countries that process critical minerals that are exported to the United States, including the distortive effects on domestic investment and the viability of United States production, as well as an assessment of how such strategies and practices permit such countries to maintain their control over the critical minerals processing sector and distort United States market prices for derivative products;

(iv) An analysis of the demand for processed critical minerals by manufacturers of derivative products in the United States and globally, including an assessment of the extent to which such manufacturers' demand for processed critical minerals originates from countries identified under questions (ii) and (iii) of this notice;

(v) A review and risk assessment of global supply chains for processed critical minerals and their derivative products;

(vi) An analysis of the current and potential capabilities of the United States to process critical minerals and their derivative products;

(vii) The dollar value of the current level of imports of all processed critical minerals and derivative products by total value and country of export; and

(viii) Any other relevant factors.

Material submitted by members of the public that is business confidential information will be exempted from public disclosure as provided for by § 705.6 of the regulations (see the ADDRESSES section of this notice). Communications from agencies of the United States Government will not be made available for public inspection. BIS does not maintain a separate public inspection facility. Requesters should first view the Bureau's web page, which can be found at: https://efoia.bis.doc.gov/ (see “Electronic FOIA” heading). If requesters cannot access the website, they may call (202) 482-0795 for assistance. The records related to this assessment are made accessible in accordance with the regulations published at 15 CFR 4.1, et seq.

Eric Longnecker,
Deputy Assistant Secretary for Technology Security.

[FR Doc. 2025-07273 Filed 4-23-25; 4:15 pm]

BILLING CODE 3510-33-P